DEPARTMENT OF HEALTH AND HUMAN SERVICES

Food and Drug Administration

Cooperative Agreement to Support the National Center for Food Safety and Technology; Notice of Intent to Supplement

AGENCY: Food and Drug Administration, HHS.

ACTION: Notice.

SUMMARY: The Food and Drug Administration (FDA), Center for Food Safety and Applied Nutrition (CFSAN), announces its intent to award on an urgent basis, a single-source, program expansion supplement to the current cooperative agreement with the Illinois Institute of Technology (IIT) for $1.1 million in fiscal year (FY) 2004. This cooperative agreement provides support for the National Center for Food Safety and Technology (NCFST), which is located on IIT's Moffett Campus in Summit-Argo, IL. The additional funding will enable IIT to undertake two new food contaminant mitigation projects and to continue the build-out of the biosafety level 3 (BSL-3) laboratory that began last year.

FOR FURTHER INFORMATION CONTACT:

Regarding the administrative and financial management aspects of this notice: Maura Stephanos, Division of Contracts and Grants Management (HFA-531), Food and Drug Administration, 5600 Fishers Lane, Rockville, MD 20857, 301-827-7183, e-mail: mstepha1@oc.fda.gov.

Regarding the programmatic aspects: Karen Carson, Center for Food Safety and Applied Nutrition (HFS-300), Food and Drug Administration, 5100 Paint Branch Pkwy., College Park, MD 20740, 301-436-1664, e-mail: kcarson@cfsan.fda.gov.

SUPPLEMENTARY INFORMATION:

I. Restricted Eligibility

Assistance will be provided to IIT for the following reasons:

1. As part of FDA's food safety and security program, development of effective mitigation strategies requires a better understanding of food processing techniques that could be used to reduce the likelihood that contaminants persist in food following processing. This type of research requires expertise in food processing and packaging in addition to the availability of facilities and equipment appropriate to this type of research. The IIT/NCSFT has these resources. Additionally, IIT/NCSFT has available through this collaborative research program, the scientific and practical experience in a wide variety of food commodities and processing techniques that will feed into the development of mitigation strategies. This research will build on the ongoing food safety research program.

2. Last fiscal year FDA provided funds to IIT to expand the existing BSL-3 pilot plant facility to include BSL-3 laboratories. This is the only BSL-3 food processing pilot plant to which FDA has ready access. Expansion of the BSL-3 pilot plant facility will provide critical support to the overall research and will provide the flexibility to have more than one ongoing research project at a time. The additional funds will assure full operation of the facility and implementation of security measures consistent with Federal, State, and local requirements. Supplemental funds will allow the work on the BSL-3 pilot plant to be completed as quickly as possible.

II. Funding

It is anticipated that $1.1 million will be made available to fund this urgent, single-source, program expansion supplement in FY 2004.

Dated: October 9, 2003.
Jeffrey Shuren,
Assistant Commissioner for Policy.

[FR Doc. 03-26269 Filed 10-16-03; 8:45 am]

BILLING CODE 4160-01-S